DEPARTMENT OF AGRICULTURE

Forest Service

Notice of Settlement Pursuant to CERCLA; Duncan Township Landfill, Houghton County, MI

AGENCY: Forest Service, USDA.

ACTION: Notice of settlement.

SUMMARY: In accordance with section 122(i) of the Comprehensive Environmental Response, Compensation, and Liability Act, as amended (CERCLA), 42 U.S.C. 9622(i), notice is hereby given of an administrative settlement for recovery of past response costs with Duncan Township (the Settling Party) concerning the Duncan Township Landfill in Houghton County, Michigan. The settlement requires the Settling Party to pay $65,000 in installment payments over ten years to the USDA Forest Service, Eastern Region. The settlement includes a covenant not to sue the Settling Party pursuant to section 107(a) of CERCLA, 42 U.S.C. 9607(a), with regard to the Site.

For thirty (30) days following the date of publication of this notice, the United States will receive written comments relating to the settlement. The United States will consider all comments received and may modify or withdraw its consent to the settlement if comments received disclose facts or considerations which indicate that the settlement is inappropriate, improper, or inadequate. The United States' response to any comments received will be available for public inspection at the Ottawa National Forest, E6248 U.S. Highway 2, Ironwood, Michigan 49938 and at the office of the USDA Forest Service Eastern Region, 626 East Wisconsin Avenue, Room 600, Milwaukee, WI 53202.

DATES: Comments must be submitted on or before January 3, 2006.

ADDRESSES: The proposed settlement is available for public inspection at the Ottawa National Forest, E6248 U.S. Highway 2, Ironwood, Michigan 49938 and at the office of the USDA Forest Service Eastern Region, 626 East Wisconsin Avenue, Room 600, Milwaukee, Wisconsin 53202. A copy of the proposed settlement may be obtained from Robert Lueckel on the Ottawa National Forest at (906) 932-1330, or from Kirk M. Minckler with USDA's Office of the General Counsel, (303) 275-5549. Comments should reference the Duncan Township Landfill, Houghton County, Michigan, and should be addressed to Kirk M. Minckler, USDA Office of the General Counsel, P.O. Box 25005, Denver, Colorado 80225-0005.

FOR FURTHER INFORMATION CONTACT: For technical information, contact Robert Lueckel, Ottawa National Forest, E6248 U.S. Highway 2, Ironwood, Michigan 49938; phone (906) 932-1330. For legal information, contact Kirk M. Minckler, USDA Office of the General Counsel, P.O. Box 25005, Denver, Colorado 80225-0005; phone (303) 275-5549.

Dated: November 18, 2005.
Forrest Starkey,
Deputy Regional Forester, USDA Forest Service, Eastern Region.

[FR Doc. 05-23530 Filed 11-30-05; 8:45 am]

BILLING CODE 3410-11-M